DEPARTMENT OF COMMERCE

National Oceanic and Atmospheric Administration

[RTID 0648-XB577]

Fisheries Off West Coast States; Pacific Coast Groundfish Fishery; Exempted Fishing Permit Applications

AGENCY: National Marine Fisheries Service (NMFS), National Oceanic and Atmospheric Administration (NOAA), Commerce.

ACTION: Notice; request for comments.

SUMMARY: The Regional Administrator, West Coast Region, NMFS, has made a preliminary determination that applications received from Exempted Fishing Permit (EFP) sponsors to renew the Electronic Monitoring EFP program warrant further consideration. NMFS requests public comment on the applications.

DATES: Comments must be received by December 29, 2021.

ADDRESSES: You may submit comments on this document, identified by NOAA-NMFS-2021-0115, by the following method:

• Electronic Submissions: Submit all public comments via the Federal e-Rulemaking Portal. Go to www.regulations.gov and enter NOAA-NMFS-2021-0115 in the Search box. Click on the “Comment” icon, complete the required fields, and enter or attach your comments. The EFP applications will be available under Supporting and Related Materials through the same link.

• Instructions: Comments must be submitted by the above method to ensure that the comments are received, documented, and considered by NMFS. Comments sent by any other method or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Justin Kavanaugh, West Coast Region, NMFS, (206) 526-4140, justin.kavanaugh@noaa.gov.

SUPPLEMENTARY INFORMATION: This action is consistent with Pacific Coast Groundfish Fishery Management Plan and the regulations implementing the Magnuson-Stevens Fishery Conservation and Management Act at 50 CFR 600.745, which state that EFPs may be used to authorize fishing activities that would otherwise be prohibited.

On January 2, 2015 (80 FR 30), NMFS announced notice of receipt of four EFP applications to test electronic monitoring (EM) in lieu of human observers. NMFS approved the EFPs in 2015 and renewed them annually in subsequent years through 2021, in order to further test the feasibility and cost-effectiveness of the EM EFP program.

On June 28, 2019 (84 FR 31146), at the recommendation of the Pacific Fishery Management Council (Council), NMFS published a final rule that authorized the use of EM in place of human observers to meet requirements for 100-percent at-sea monitoring for catcher vessels in the groundfish trawl catch share fishery (Trawl Rationalization Program). EM video systems are used to record catch and discards by the vessel crew while at sea. Vessel operators are responsible for recording catch and discards in a logbook, which is then used to debit individual fishing quota (IFQ) accounts and cooperative allocations. Recently, the Council recommended, and NMFS implemented, a delay to the start of the regulatory program (86 FR 55525; October 6, 2021). The Council recommended the renewal of the EM EFPs during this delay to provide more time for industry and the Pacific States Marine Fisheries Commission (PSMFC) to test a model for industry to fund PSMFC for review of video from their fishing trips and to further evaluate the costs of the regulatory program. PSMFC has been reviewing video data from the experimental EM EFP program, funded by NMFS, since 2015.

NMFS received applications to renew the EM EFPs for 2022 and 2023. A summary of each EFP application is provided below.

• California Groundfish Collective EM EFP: In partnership with the Nature Conservancy, eligible vessels participating in the Collective would further test the feasibility of using at-sea EM for vessels using fixed gear or bottom trawl gear types. Fixed gear will operate under maximized retention and bottom trawl gear will operate under optimized retention. All fishing will be conducted south of Cape Mendocino, CA. Fishing may target all species authorized by the Trawl Rationalization Program. The applicants have not requested any exemptions from quota limits, or gear or area restrictions, and all catch will be covered by the vessels' IFQ, Individual Bycatch Quota (IBQ), or cooperative allocation. According to the applicants, the EFP renewal aims to achieve five goals:

1. Identify individual and overall cost components of implementing EM on fixed gear and bottom trawl vessels.

2. Establish best practices for discard control points on bottom trawl vessels using optimized retention.

3. Establish best practices for discard protocols, particularly for non-IFQ species and flor low-attainment IFQ species that are identifiable.

4. Identify improvements to EM systems and protocols to inform regulations that will allow for the use of EM.

5. Inform determination of final steps to implement EM for accountability in a way that will provide economic relief and operational flexibility to the groundfish IFQ program while maintaining individual accountability and the integrity of the IFQ program.

• Fixed Gear EM EFP: Under this EFP renewal, eligible fixed gear vessels with a trawl-endorsed groundfish limited entry permit assignment would continue to test the economic and operational feasibility of using EM in lieu of human observers for 100 percent at-sea monitoring of groundfish IFQ trips. The applicants seek to lower operating costs and identify more flexible catch handling methods under the renewed EFP. Applicants will target species authorized by the Trawl Rationalization Program, specifically sablefish (North and South of 36 degrees) off the coasts of Washington, Oregon, and California. The applicants have not requested any exemptions from quota limits, or gear or area restrictions, and all catch will be covered by the vessels' IFQ, IBQ, or cooperative allocation.

• Trawl Gear EM EFP: The Midwater Trawlers Cooperative and United Catcher Boats seek to continue testing the cost-effectiveness and operational efficiency of using EM in lieu of human observers while still providing the required 100 percent monitoring of catch and discards, for at-sea mothership catcher vessels and vessels delivering shoreside. Additionally, the application incorporates the midwater non-whiting and bottom trawl gears for EM EFP trips. The use of EM for bottom trawl gear was previously evaluated under the Leipzig EM EFP, which first began in 2015. Under the new sponsorship, bottom trawl EM trips would be tested under this overarching EFP. Fishing may occur in all times and locations, using all gear types, and targeting species authorized by the Trawl Rationalization Program. The applicants have not requested any exemptions from quota limits, or gear or area restrictions, and all catch will be covered by the vessels' IFQ, IBQ, or cooperative allocation.

The Regional Administrator has made a preliminary determination that the applications described above contain all of the required information and constitute an activity appropriate for further consideration. Following the conclusion of the public comment period and review of public comment, NMFS may approve and issue permits for the EFP projects. If approved, NMFS intends to issue the permits for two years, 2022 and 2023, without issuing another Federal Register notice. NMFS would issue the permits for the EFP project to the vessel owner or designated representative as the “EFP holder.” NMFS intends to use an adaptive management approach in which NMFS may revise requirements and protocols to achieve the EM EFP goals and improve the program without issuing another Federal Register notice, provided that the modifications fall within the scope of the impacts of the original EFP.

Authority: 16 U.S.C. 1801 et seq.

Dated: December 8, 2021.
Ngagne Jafnar Gueye,
Acting Director, Office of Sustainable Fisheries, National Marine Fisheries Service.

[FR Doc. 2021-26959 Filed 12-13-21; 8:45 am]

BILLING CODE 3510-22-P